DEPARTMENT OF HOMELAND SECURITY

[Docket No. CISA-2022-0015]

Agency Information Collection Activities: Information Collection for the State, Local, Tribal and Private Sector (SLTPS) Clearance Program

AGENCY: Cybersecurity and Infrastructure Security Agency (CISA), Department of Homeland Security (DHS).

ACTION: 30-Day notice and request for comments; reinstatment and revision of information collection request: 1670-0013.

SUMMARY: The Cybersecurity and Infrastructure Security Agency (CISA) will submit the following information collection request (ICR) to the Office of Management and Budget (OMB) for review and clearance in accordance with the Paperwork Reduction Act of 1995. CISA previously published this information collection request (ICR) in the Federal Register on Novemebr 21, 2022 for a 60-day public comment period. Zero comments were received by CISA. The purpose of this notice is to allow additional 30-days for public comments.

DATES: Comments are encouraged and will be accepted April 12, 2023. This process is conducted in accordance with 5 CFR 1320.10.

ADDRESSES: Interested persons are invited to submit written comments on the proposed information collection to the Office of Information and Regulatory Affairs, Office of Management and Budget. Comments should be addressed to OMB Desk Officer, Department of Homeland Security and sent via electronic mail to dhsdeskofficer@omb.eop.gov. All submissions must include the words “Department of Homeland Security” and the OMB Control Number 1670-0013—replace Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: If additional information is required contact: The Department of Homeland Security (DHS), Quintin Whitaker, 202-805-4959 PSCP@hq.dhs.gov.

SUPPLEMENTARY INFORMATION: Partnerships between the U.S. Government and the state, local, tribal and private sector at times necessitate the sharing of classified information. The State, Local, Tribal and Private Sector (SLTPS) Clearance Request Form facilitates this sharing by sponsoring security clearances for certain members of each sector based on either their membership on a Sector Coordinating Council (SCC)/association or their infrastructure protection job-related duties and their need-to-know. The SLTPS is designed to sponsor security clearances for state, local, tribal and private sector officials involved in the infrastructure protection mission. These partners are subject matter experts within specific industries and have specialized knowledge not available within the Department of Homeland Security (DHS) and other Federal Departments or Agencies. Private citizens do not receive monetary compensation for their time. CISA created this program to sponsor clearances for these individuals who are not employed by or contracted with another Federal agency (the traditional means of obtaining a clearance) and must have clearances.

The Cyber Information Sharing and Collaboration Agreement (CISCA) and Classified Critical Infrastructure Protection Program (CCIPP) nominees will also use the form in the same manner as the SLTPS. The form updates will include adding State and Local, CISCA and CCIPP to the drop-down capabilities. Type of submission will have a dropdown capability added. Subsectors will be added to some of the Sectors. A generic approving signature title will be added.

CISA collects necessary information through 1670-0013 to facilitate security clearances needed for sharing classified information with the vetted SLTPS Stakeholders.

The U.S. Government is authorized to ask for this information under sections 201 and 229 of the Homeland Security Act (Pub. L. 107-296, 6 U.S.C. 121, 150), and Executive Orders 12968, 13526, 13549, 13636, and 13691 which authorize the collection of this information.

In order to begin this process of adjudicating a nominee to participate in the clearance program, Federal nominators will complete the DHS Form 9014, State, Local, Tribal and Private Sector Clearance Request Form, excluding their date of birth, place of birth and social security number. The Federal nominator will sign the form and have it approved by a senior-level official from the corresponding Federal Department or Agency. Before being submitted to the CISA Office of the Chief Security Officer (OCSO) SLTPS Administrator via the CISA Action Task Tracker (CATT), the nominee would have been deemed to have a CISA mission and meet the requirements and criteria as outlined in Executive Order (E.O.) 13549, the Department of Homeland Security, Classified National Security Information Program for SLTPS Implementing Directive and E.O. 13691, Sec. 4(c), and 32 CFR part 117, Sec. 117.22 of the National Industrial Security Program Operating Manual (NISPOM). The SLTPS Administrator will extract the application from the electronic tracking system and will capture first and last name, clearance level being requested, sector or subsector they are involved in, company, job title, city and state the company is located, work and personal email and work phone number. This information is entered into a SharePoint system in order to track the clearance process and to provide a real-time status of a nominee [and Stakeholders] to Federal nominators and DHS employees who have a need to know. The OCSO Security Specialist is informed that the nominee is ready to start the clearance process and the Personally Identifiable Information (PII) is requested and input into the Electronic Questionnaires for Investigations Processing (e-QIP) system, the Office of Personnel Management's (OPM) secure portal for investigation processing. Once the data is entered into e-QIP, the nominee is provided a password and can access the system and complete the online security questionnaire.

This information is only available to Security Specialists within OCSO working on the program and is maintained in the Integrated Security Management System (ISMS), which is “owned” by the OCSO. The two-part PII request process helps minimize the collection of sensitive PII for only those nominees who meet the threshold and are sponsored by CISA.

Number of Respondents

The current estimate of annual respondents is 660, however, based on recent program data, CISA is revising the estimate to 550.

Estimated Time per Response

CISA is choosing to retain the estimate of 10 minutes (0.1667 hours) per response in the current information collection.

Annual Burden Hours

In the current information collection, the estimated annual burden is 110 hours. To estimate the annual burden hours for this collection, the CISA multiplied the number of annual respondents by the estimated time burden of 0.1667 hours (10 minutes), for an estimated annual burden of 91.67 hours (i.e., 0.1667 hours multiplied by 550 annual respondents).

Total Annual Burden

To estimate the total annual burden, CISA multiplied the annual burden of 24,879 hours by the average loaded hourly wage rate computer and information systems managers of $110.66 ¹ per hour. Therefore, the total annual burden cost for the collection is $10,144 (91.67 hours × $110.66). For the three-year period for which this collection will be approved, the total cost burden would be $6,603,456 ($2,201,152 annual cost multiplied by 3 years). This is a revised information collection. OMB is particularly interested in comments that:

¹ The above Average Hourly Wage Rate is the May 2021 Bureau of Labor Statistics average wage for Computer and Information Systems Managers (11-3021) of $78.33 times the wage rate benefit multiplier of 1.4127 (to account for fringe benefits) equaling $110.66. The benefits multiplier is estimated by dividing total compensation of $37.24 by salaries and wages of $26.36, based on Employer Cost for Employee Compensation, September 2021, released December 16, 2021 (https://www.bls.gov/news.release/archives/ecec_12162021.pdf).

1. Evaluate whether the proposed collection of information is necessary for the proper performance of the functions of the agency, including whether the information will have practical utility.

2. Evaluate the accuracy of the agency's estimate of the burden of the proposed collection of information, including the validity of the methodology and assumptions used.

3. Enhance the quality, utility, and clarity of the information to be collected.

4. Minimize the burden of the collection of information on those who are to respond, including through the use of appropriate automated, electronic, mechanical, or other technological collection techniques or other forms of information technology, e.g., permitting electronic submissions of responses.

Analysis

Agency: Cybersecurity and Infrastructure Security Agency (CISA), Department of Homeland Security (DHS).

Title: State, Local, Tribal and Private Sector (SLTPS) Clearance Request Program.

OMB Number: CISA-1670-0013.

Instrument: DHS Form 9014: State, Local, Tribal and Private Sector (SLTPS) Clearance Request Form.

Frequency: “Other”.

Affected Public: Business or other for-profit.

Number of Respondents: 550 respondents.

Estimated Time per Respondent: 0.1667 hours (10 minutes).

Total Burden Hours: 91.67 annual burden hours.

Total Burden Cost (capital/startup): $0.

Total Recordkeeping Burden: $0.

Total Burden Cost: $10,144.

Robert J. Costello,
Chief Information Officer, Department of Homeland Security, Cybersecurity and Infrastructure Security Agency.

[FR Doc. 2023-05004 Filed 3-10-23; 8:45 am]

BILLING CODE 9110-9P-P